ENVIRONMENTAL PROTECTION AGENCY

40 CFR Part 770

[EPA-HQ-OPPT-2017-0244; FRL-9963-74]

RIN 2070-AK35

Compliance Date Extension; Formaldehyde Emission Standards for Composite Wood Products

AGENCY: Environmental Protection Agency (EPA).

ACTION: Direct final rule; withdrawal.

SUMMARY: In the Federal Register of May 24, 2017, EPA published both a direct final rule and proposed rule to extend the compliance dates and California Air Resource Board (CARB) Third Party Certifier (TPC) transitional period originally published in the Toxics Substances Control Act (TSCA) Title VI formaldehyde emission standards for composite wood products final rule on December 12, 2016. As noted in the direct final rule, if EPA received relevant adverse comment on the proposed amendments, the Agency would publish a timely withdrawal of the direct final rule in the Federal Register informing the public that the direct final action will not take effect. The Agency did receive adverse comment on the proposed rule amendments, and is therefore withdrawing the direct final rule and will instead proceed with a final rule based on the proposed rule after considering all public comments.

DATES: Effective July 6, 2017 the direct final rule published in the Federal Register of May 24, 2017 (82 FR 23735) (FRL-9962-86) is withdrawn.

FOR FURTHER INFORMATION CONTACT: For technical information contact: Erik Winchester, National Program Chemicals Division, Office of Pollution Prevention and Toxics, Environmental Protection Agency, 1200 Pennsylvania Ave. NW., Washington, DC 20460-0001; telephone number: 202-564-6450; email address: winchester.erik@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

A list of potentially affected entities is provided in the Federal Register of May 24, 2017 (82 FR 23735). If you have questions regarding the applicability of this action to a particular entity, consult the technical person listed under FOR FURTHER INFORMATION CONTACT.

II. What rule is being withdrawn?

In the May 24, 2017 Federal Register, EPA published both a direct final rule (see 82 FR 23735) and proposed rule (see 82 FR 23769) pursuant to section 601 of TSCA that would have extended the December 12, 2016 published (see 81 FR 89674) compliance dates for emission standards, recordkeeping, and labeling provisions, until March 22, 2018; extended the December 12, 2018 compliance date for import certification provisions until March 22, 2019; and extended the December 12, 2023 compliance date for provisions applicable to producers of laminated products until March 22, 2024. Additionally, this action would have extended the CARB TPC transitional period which is currently set to end December 12, 2018, until March 22, 2019.

Since the direct final rule and proposed rule's publication, EPA has received several comments on the proposed amendments to the compliance dates that the Agency considers to be adverse. As a result of receiving adverse comments, EPA is withdrawing the direct final rule published in the Federal Register on May 24, 2017. These comments are available for review in the public docket and suggest alternatives to the proposed action which EPA will address in a subsequent final rule.

III. How do I access the docket?

To access the docket, please go to http://www.regulations.gov and follow the online instructions using the docket ID number EPA-HQ-OPPT-2017-0244. Additional information about the Docket Facility is also provided under ADDRESSES in the May 24, 2017 (82 FR 23735) Federal Register document. If you have questions, consult the technical person listed under FOR FURTHER INFORMATION CONTACT.

IV. Good Cause Finding

EPA finds that there is “good cause” under the Administrative Procedure Act (5 U.S.C. 553(b)(3)(B)) to withdraw the direct final rule discussed in this document without prior notice and comment. For this document, notice and comment is impracticable and unnecessary because EPA is under a time limit to publish this withdrawal. It was determined that this document is not subject to the 30-day delay of effective date generally required by 5 U.S.C. 553(d). This withdrawal must become effective prior to the effective date of the direct final rule being withdrawn.

V. Statutory and Executive Order Reviews

This document withdraws regulatory requirements that have not gone into effect. As such, the Agency has determined that this withdrawal will not have any adverse impacts, economic or otherwise. The statutory and Executive Order review requirements applicable to the direct final rule being withdrawn were discussed in the May 24, 2017 (82 FR 23735) Federal Register document. Those review requirements do not apply to this action because it is a withdrawal and does not contain any new or amended requirements.

VI. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2). Section 808 of the CRA allows the issuing agency to make a rule effective sooner than otherwise provided by CRA if the agency makes a good cause finding that notice and public procedure is impracticable, unnecessary, or contrary to the public interest. As required by 5 U.S.C. 808(2), this determination is supported by a brief statement in Unit IV.

List of Subjects in 40 CFR Part 770

Environmental protection, Formaldehyde, Incorporation by reference, Reporting and recordkeeping requirements, Third-party certification, Toxic substances, Wood.

Dated: June 28, 2017.
Louise P. Wise,
Acting Assistant Administrator, Office of Chemical Safety and Pollution Prevention.

[FR Doc. 2017-14106 Filed 7-5-17; 8:45 am]

BILLING CODE 6560-50-P